FEDERAL COMMUNICATIONS COMMISSION

[OMB 3060-1178]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments should be submitted on or before July 29, 2019. If you anticipate that you will be submitting comments but find it difficult to do so with the period of time allowed by this notice, you should advise the contacts listed below as soon as possible.

ADDRESSES: Direct all PRA comments to Nicholas A. Fraser, OMB, via email Nicholas_A._Fraser@OMB.eop.gov; and to Cathy Williams, FCC, via email PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading,(4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1178.

Title: TV Broadcast Relocation Fund Reimbursement Form, FCC Form 2100, Schedule 399; Section 73.3700(e), Reimbursement Rules.

Form Number: FCC Form 2100, Schedule 399.

Type of Review: Revision of a currently approved collection.

Respondents: Business or other for-profit entities; Not for profit institutions.

Number of Respondents and Responses: 4,400 respondents; 52,800 responses.

Estimated Hours per Response: 1-4 hours.

Frequency of Response: One-time reporting requirement; On occasion reporting requirement, Record keeping requirement.

Total Annual Burden: 98,800 hours.

Total Annual Cost: $15,000,000.

Obligation to Respond: Required to obtain or retain benefits. The statutory authority for this collection of information is contained in 47 U.S.C. 151, 154(j), 157 and 309(j) as amended; and Middle Class Tax Relief and Job Creation Act of 2012, Public Law 112-96, §§ 6402 (codified at 47 U.S.C. 309(j)(8)(G)), 6403 (codified at 47 U.S.C. 1452), 126 Stat. 156 (2012) (Spectrum Act).

Nature and Extent of Confidentiality: There is some need for confidentiality with this collection of information. Invoices, receipts, contracts, and other cost documentation submitted along with the form will be kept confidential in order to protect the identification of vendors and the terms of private contracts between parties. Vendor name and Employer Identification Numbers (EIN) or Tax Payer Identification Number (TIN) will not be disclosed to the public.

Privacy Impact Assessment: No impact(s).

Needs and Uses: The submission is being made to the Office of Management and Budget (OMB) for the approval of new information collection requirements contained within the Commission's Report and Order, LPTV, TV Translator, and FM Reimbursement; Expanding the Economic and Innovation Opportunities Through Incentive Auction, MB Docket No. 18-214 and GN Docket No. 12-268, FCC 19-21, (March 15, 2019), 84 FR 11233 (March 26, 2019) (LPTV, TV Translator, and FM Reimbursement Report and Order). The LPTV, TV Translator, and FM Reimbursement Report and Order adopts rules to implement Congress' directive in the 2018 Reimbursement Expansion Act (REA) that the Commission reimburse certain Low Power Television and television translator stations and FM broadcast stations, for costs incurred as a result of the Commission's broadcast television spectrum incentive auction. In the REA, Congress provided additional funding for the TV Broadcaster Relocation Fund and expanded the list of entities eligible to receive reimbursement for costs reasonably incurred as a result of the reorganization of broadcast television spectrum to include LPTV/translator and FM stations. The LPTV, TV Translator, and FM Reimbursement Report and Order adopts rules relating to eligibility, expenses, and procedures the Commission will use to provide *17830 reimbursement to these entities and mandates the use of various measures designed to protect the Reimbursement Fund against waste, fraud, and abuse. This submission is being made to implement the Commission's directive to add LPTV, TV Translators, and FM broadcast stations to this Information Collection.

In the LPTV, TV Translator, and FM Reimbursement Report and Order, the Commission delegated to the Media Bureau the authority to modify current FCC Form 2100, Schedule 399, TV Broadcaster Relocation Fund Reimbursement Form (Reimbursement Form), to add all newly eligible LPTV, TV Translator, and FM broadcast entities. The Media Bureau has, therefore, added questions and certifications to the Reimbursement Form to accommodate these newly eligible broadcast entities. Specifically, in order to protect the Reimbursement Fund against waste, fraud, and abuse, all newly eligible broadcast entities that propose to request reimbursement for eligible expenses must certify on the Reimbursement Form that they meet the specified eligibility criteria and provide information regarding their affected broadcasting equipment and the estimated costs eligible for reimbursement. This Information Collection is otherwise unchanged as already approved by OMB.

Federal Communications Commission.
Marlene Dortch,
Secretary, Office of the Secretary.

[FR Doc. 2019-13865 Filed 6-27-19; 8:45 am]

BILLING CODE 6712-01-P